FEDERAL EMERGENCY MANAGEMENT AGENCY

Agency Information Collection Activities: Submission for OMB Review; Comment Request

ACTION: Notice and request for comments.

SUMMARY: The Federal Emergency Management Agency is submitting a request for review and approval of a new collection of information under the emergency processing procedures in the Office of Management and Budget (OMB) regulation 5 CFR 1320.13. FEMA is requesting the collection of information be approved by November 15, 2002, for use through May 15, 2002.

FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information. This notice and request for comments is in accordance with the provisions of the Paperwork Reduction Act of 1995 (44 U.S.C. 3506(c)(2)(A)).

SUPPLEMENTARY INFORMATION: Announced by President George W. Bush in January 2002, Citizen Corps is currently composed of five national programs: Neighborhood Watch, Volunteers in Police Service, Operation TIPS, Community Emergency Response Teams, and Medical Reserve Corps. There are, however, many ongoing, credible programs that support the Citizen Corps' mission. Providing formal recognition to these programs and similar organizations by affiliating them with Citizen Corps will enable the program to reach its goal of having every American participate in making their communities and families safer. In order to ensure that interested parties appropriately further the Citizen Corps mission, Citizen Corps will request supporting information from those programs and organizations seeking to become affiliates.

Collection of Information

Title: Citizen Corps Affiliate Programs and Organizations Application.

Type of Information Collection: New collection.

OMB Number: 3067-New.

Abstract: Citizen Corps requests information from not-for-profit and governmental groups that would like to support the Citizen Corps program through becoming affiliates. The requested information will ensure that Citizen Corps affiliates only with those programs and organizations capable of supporting its mission.

Affected Public: Not-For-Profit Institutions, and State, Local, and Tribal Governments.

Estimated Total Annual Burden Hours: 80 hours.

Estimated Cost: Estimated cost to the Federal Government: $315.00.

Comments: Written comments are solicited to (a) evaluate whether the proposed data collection is necessary for the proper performance of the agency, including whether the information shall have practical utility; (b) evaluate the accuracy of the agency's estimate of the burden of the proposed collection of information; (c) enhance the quality, utility, and clarity of the information to be collected; and (d) minimize the burden of the collection of information on those who are to respond, including through the use of appropriate automated, electronic, mechanical, or other technological collection techniques or other forms of information technology, e.g. permitting electronic submission of responses. Submit comments to the OMB within 30 days of the date of this notice. To ensure that FEMA is fully aware of any comments or concerns that you share with OMB, please provide us with a copy of your comments. FEMA will continue to accept comments for 60 days from the date of this notice.

ADDRESSES: Interested persons should submit written comments to the Office of Management and Budget, Office of Information and Regulatory Affairs, Attention: Desk Officer for the Federal Emergency Management Agency, Washington, DC 20503.

FOR FURTHER INFORMATION CONTACT: Requests for additional information or copies of the information collection should be made to Muriel B. Anderson, Chief, Records Management Branch, Information Resources Management Division, Information Technology Services Directorate, Federal Emergency Management Agency, 500 C Street, SW., Room 316, Washington, DC 20472. FAX number (202) 646-3524 or by e-mail address: informationcollections@fema.gov.

Dated: October 31, 2002.
Edward W. Kernan,
Division Director, Information Resources Management Division, Information Technology Services Directorate.

[FR Doc. 02-28622 Filed 11-8-02; 8:45 am]

BILLING CODE 6718-01-P